DEPARTMENT OF EDUCATION

[CFDA No. 84.015A and B]

Office of Postsecondary Education; National Resource Centers (NRC) Program for Foreign Language and Area Studies or Foreign Language and International Studies and Foreign Language and Area Studies (FLAS) Fellowships Program; Notice Inviting Applications for New Awards for Fiscal Year (FY) 2003

Purpose of Programs: The NRC Program makes awards to institutions of higher education for establishing or strengthening nationally recognized foreign language and area or international studies centers or programs. NRC awards are used to support undergraduate centers or comprehensive centers, which include undergraduate, graduate, and professional school components.

The FLAS Program awards allocations of fellowships to institutions of higher education to assist meritorious students undergoing graduate training in modern foreign languages and related areas or international studies. FLAS allocations may be used for academic year and summer fellowships.

For fiscal year (FY) 2003 the competition focuses on projects designed to meet the priorities we describe in the Priorities section of this notice.

Eligible Applicants: Institutions of higher education and consortia of institutions of higher education.

Applications Available: September 25, 2002.

Deadline for Transmittal of Applications: November 12, 2002.

Deadline for Intergovernmental Review: January 11, 2003.

Estimated Available Funds: The Administration has requested $28,715,000 for the NRC Program and $26,435,000 for the FLAS Program for FY 2003. The actual level of funding, if any, depends on final congressional action. However, we are inviting applications to allow enough time to complete the grant process if Congress appropriates funds for these programs.

Estimated Range of Awards: $202,000—$318,000 per year for the NRC Program and $31,000—$372,000 per year for the FLAS Program.

Estimated Average Size of Awards: $231,573 per year for the NRC Program and $204,922 per year for the FLAS Program.

Estimated Number of Awards: 124 NRC awards and 129 FLAS awards. We anticipate the 129 FLAS awards to yield 923 academic year fellowships and 560 summer fellowships.

Note: The Department is not bound by any estimates in this notice.

Project Period: 36 months, beginning August 15, 2003.

SUPPLEMENTARY INFORMATION:

FLAS Program Subsistence Allowance

The subsistence allowance for a fellowship for academic year 2003-2004 will be $14,000 and the allowance for a summer 2004 fellowship will be $2,400.

FLAS Program Institutional Payment

The institutional payment in lieu of tuition for a fellowship for academic year 2003-2004 will be $11,000 and the payment for a summer 2004 fellowship will be $3,600.

FLAS Program Travel Award

A travel award for $1,000 or the actual cost of travel, whichever is less, may be requested in conjunction with summer fellowships that are to be used at language program sites other than the student's home institution.

An applicant's FLAS Program budget should reflect $25,000 for each academic year fellowship requested, $6,000 for each summer fellowship requested, and $1,000 for each summer travel award requested.

Note: FLAS Program awards do not include allowances for dependents.

Page Limit

The application narrative (Section C of the application) is where you, the applicant, address the selection criteria that reviewers use to evaluate your application. You must limit the narrative to the equivalent of no more than 35 pages for a single institution application or the equivalent of no more than 45 pages for a consortium application, using the following standards:

• A “page” is 8.5″ × 11″, on one side only, with 1″ margins at the top, bottom, and both sides.

• Double space (no more than three lines per vertical inch) all text in the application narrative, including titles, headings, footnotes, quotations, references, and captions. However, you may single space all text in charts, tables, figures and graphs.

• Use a font that is either 12-point or larger or no smaller than 10 pitch (characters per inch). However you may use a 10-point font in charts, tables, figures, and graphs.

The page limit does not apply to the cover sheet; the budget section, including the narrative budget justification; the assurances and certifications; or the one-page abstract or the appendices. However, you must include all of the application narrative in Section C.

We will reject your application if—

• You apply these standards and exceed the page limit; or

• You apply other standards and exceed the equivalent of the page limit.

Applicable Regulations: (a) The Education Department General Administrative Regulations (EDGAR) in 34 CFR parts 74, 75, 77, 79, 82, 85, 86, 97, 98, and 99. (b) The regulations for the NRC Program in 34 CFR part 656. (c) The regulations for the FLAS Program in 34 CFR part 657. (d) The regulations in 34 CFR part 655.

Priorities

Absolute Priority

This competition focuses on projects designed to meet a priority in the regulations for the NRC Program (34 CFR 656.23(a)(4)).

Teacher training activities: An NRC project funded under this priority must focus on teacher training activities on the language, languages, area studies, or general topic of the center.

Under 34 CFR 75.105(c)(3) we consider only applications that meet the priority.

Invitational Priorities

Within the absolute priority listed in this application notice, we are particularly interested in applications that meet one or more of the following invitational priorities.

NRC Program Invitational Priority 1

Activities designed to increase the number of international experts, including those entering government service and various professional disciplines, with in-depth knowledge of Islamic societies and high-level language proficiency in the languages of those societies.

NRC Program Invitational Priority 2

Activities designed to strengthen the quality of the center's language program so that students can attain advanced language proficiency in the less and least commonly taught languages.

NRC Program Invitational Priority 3

Linkages with schools of education designed to improve teacher training in foreign languages, area, or international studies with an emphasis on the less commonly taught languages and areas of the world where those languages are spoken.

NRC Program Invitational Priority 4

Activities that engage the language resources of local heritage communities where appropriate.

NRC Program Invitational Priority 5

Collaboration with Title VI language resource centers, the centers for international business education, and the American overseas research centers with a focus on the less and least commonly taught languages and underrepresented professional disciplines.

FLAS Program Invitational Priority 1

Fellowships to students in the least commonly taught languages who are pursuing advanced level language proficiency.

FLAS Program Invitational Priority 2

Fellowships to talented students pursuing master's degrees who may be more likely to pursue government service.

Under 34 CFR 75.105(c)(1) we do not give an application that meets one or more of the invitational priorities a competitive or absolute preference over other applications.

For Applications AND FURTHER Information Contact: Cheryl E. Gibbs, Ed McDermott, Karla Ver Bryck Block, or Amy Wilson, International Education and Graduate Programs Service, U.S. Department of Education, 1990 K Street, NW., Suite 6000, Washington, DC 20006-8521. Telephone: (202) 502-7700 or via Internet: OPE_NRC-FLAS@ed.gov.

If you use a telecommunications device for the deaf (TDD), you may call the Federal Information Relay Service (FIRS) at 1-800-877-8339.

Individuals with disabilities may obtain this document in an alternative format (e.g., Braille, large print, audiotape, or computer diskette) on request to a program contact person listed under FOR APPLICATIONS AND FURTHER INFORMATION CONTACT.

Individuals with disabilities also may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

You may also view this document in PDF at the following site: http://www.ed.gov/offices/OPE/HEP/iegps/.

Note: The official version of this document is the document published in the Federal Register. Free Internet access to the official edition of the Federal Register and the Code of Federal Regulations is available on GPO Access at: http://www.access.gpo.gov/nara/index.html.

Program Authority: 22 U.S.C. 1122.

Dated: September 23, 2002.
Sally L. Stroup,
Assistant Secretary, Office of Postsecondary Education.

[FR Doc. 02-24436 Filed 9-25-02; 8:45 am]

BILLING CODE 4000-01-P